DEPARTMENT OF THE INTERIOR

Geological Survey

Scientific Earthquake Studies Advisory Committee

AGENCY: U.S. Geological Survey.

ACTION: Notice of meeting.

SUMMARY: Pursuant to Public Law 106-503, the Scientific Earthquake Studies Advisory Committee (SESAC) will hold its fourteenth meeting. The meeting location is the Albuquerque Seismological Laboratory, 10002 Isleta Road, SE, Kirtland AFB, New Mexico 87117. The Committee is comprised of members from academia, industry, and State government. The Committee shall advise the Director of the U.S. Geological Survey (USGS) on matters relating to the USGS's participation in the National Earthquake Hazards Reduction Program.

The Committee will provide guidance on the USGS's contributions to the Global Seismographic Network and report preparation.

Meetings of the Scientific Earthquake Studies Advisory Committee are open to the public.

DATES: October 30, 2006, commencing at 9 a.m. and adjourning at noon on October 31, 2006.

Contact: Dr. David Applegate, U.S. Geological Survey, MS 905, 12201 Sunrise Valley Drive, Reston, Virginia 20192, (703) 648-6714, applegate@usgs.gov.

Dated: October 2, 2006.
Rama Kotra,
Acting Associate Director for Geology.

[FR Doc. 06-8716 Filed 10-16-06; 8:45 am]

BILLING CODE 4311-AM-M